DEPARTMENT OF ENERGY

Federal Energy Regulatory Commission

Combined Notice of Filings #2

Take notice that the Commission received the following electric corporate filings:

Docket Numbers: EC16-137-000.

Applicants: American Transmission Company LLC.

Description: Application for Authorization Pursuant to Section 203 of the FPA American Transmission Company LLC.

Filed Date: 6/30/16.

Accession Number: 20160630-5286.

Comments Due: 5 p.m. ET 7/21/16.

Docket Numbers: EC16-138-000.

Applicants: Effingham County Power, LLC, SEPG Energy Marketing Services, LLC, Washington County Power, LLC.

Description: Application for Authorization Pursuant to Section 203 of the FPA of Effingham County Power, LLC, et al.

Filed Date: 6/30/16.

Accession Number: 20160630-5280.

Comments Due: 5 p.m. ET 7/21/16.

Take notice that the Commission received the following electric rate filings:

Docket Numbers: ER10-2757-006; ER10-2756-006.

Applicants: Arlington Valley, LLC, Griffith Energy LLC.

Description: Triennial Market Power Update for the Southwest Region of Arlington Valley, LLC, et al.

Filed Date: 6/30/16.

Accession Number: 20160630-5189.

Comments Due: 5 p.m. ET 8/29/16.

Docket Numbers: ER15-1596-002; ER15-1599-002; ER15-1598-002; ER11-4400-006; ER11-4398-005; ER10-2616-009; ER10-2593-004 ER10-2590-004.

Applicants: Dynegy Commercial Asset Management, LLC, Dynegy Energy Services (East), LLC, Dynegy Marketing and Trade, LLC, Dynegy Midwest Generation, LLC, Dynegy Moss Landing, LLC, Dynegy Oakland, LLC, Dynegy Power Marketing, LLC, Dynegy Resources Management, LLC.

Description: Updated Market Power Analysis for the Southwest Region of Dynegy Commercial Asset Management, LLC, et al.

Filed Date: 6/30/16.

Accession Number: 20160630-5216.

Comments Due: 5 p.m. ET 8/29/16.

Docket Numbers: ER16-1211-002.

Applicants: Midcontinent Independent System Operator, Inc.

Description: Compliance filing: 2016-06-30_SA 2906 IPL-IPL GIA (J401) Compliance to be effective 3/18/2016.

Filed Date: 6/30/16.

Accession Number: 20160630-5154.

Comments Due: 5 p.m. ET 7/21/16.

Docket Numbers: ER16-2075-000.

Applicants: Avista Corporation.

Description: Compliance filing: Avista Corp Order 819 Compliance Filing to be effective 7/1/2016.

Filed Date: 6/30/16.

Accession Number: 20160630-5000.

Comments Due: 5 p.m. ET 7/21/16.

Docket Numbers: ER16-2076-000.

Applicants: Puget Sound Energy, Inc.

Description: Section 205(d) Rate Filing: MBR Tariff Revisions re 784 & 819 to be effective 7/1/2016.

Filed Date: 6/30/16.

Accession Number: 20160630-5035.

Comments Due: 5 p.m. ET 7/21/16.

Docket Numbers: ER16-2077-000.

Applicants: Badger Creek Limited.

Description: Market-Based Triennial Review Filing: Southwest Triennial & 819 Revisions to be effective 7/1/2016.

Filed Date: 6/30/16.

Accession Number: 20160630-5047.

Comments Due: 5 p.m. ET 8/29/16.

Docket Numbers: ER16-2078-000.

Applicants: Bear Mountain Limited.

Description: Market-Based Triennial Review Filing: Southwest Triennial & 819 Revisions to be effective 7/1/2016.

Filed Date: 6/30/16.

Accession Number: 20160630-5049.

Comments Due: 5 p.m. ET 8/29/16.

Docket Numbers: ER16-2079-000.

Applicants: Chalk Cliff Limited.

Description: Market-Based Triennial Review Filing: Southwest Triennial & 819 Revisions to be effective 7/1/2016.

Filed Date: 6/30/16.

Accession Number: 20160630-5050.

Comments Due: 5 p.m. ET 8/29/16.

Docket Numbers: ER16-2080-000.

Applicants: Midcontinent Independent System Operator, Inc., Ameren Illinois Company.

Description: Section 205(d) Rate Filing: 2016-06-30_SA 1975 Ameren-Norris 5th Rev WDS Agreement to be effective 6/1/2016.

Filed Date: 6/30/16.

Accession Number: 20160630-5051.

Comments Due: 5 p.m. ET 7/21/16.

Docket Numbers: ER16-2081-000.

Applicants: Double C Generation Limited Partnership.

Description: Market-Based Triennial Review Filing: Southwest Triennial & 819 Revisions to be effective 7/1/2016.

Filed Date: 6/30/16.

Accession Number: 20160630-5055.

Comments Due: 5 p.m. ET 8/29/16.

Docket Numbers: ER16-2082-000.

Applicants: High Sierra Limited.

Description: Market-Based Triennial Review Filing: Southwest Triennial & 819 Revisions to be effective 7/1/20160.

Filed Date: 6/30/16.

Accession Number: 20160630-5058.

Comments Due: 5 p.m. ET 8/29/16.

Docket Numbers: ER16-2083-000.

Applicants: Kern Front Limited.

Description: Market-Based Triennial Review Filing: Southwest Triennial & 819 Revisions to be effective 7/1/2016.

Filed Date: 6/30/16.

Accession Number: 20160630-5062.

Comments Due: 5 p.m. ET 8/29/16.

Docket Numbers: ER16-2084-000.

Applicants: Live Oak Limited.

Description: Market-Based Triennial Review Filing: Southwest Triennial & 819 Revisions to be effective 7/1/2016.

Filed Date: 6/30/16.

Accession Number: 20160630-5066.

Comments Due: 5 p.m. ET 8/29/16.

Docket Numbers: ER16-2085-000.

Applicants: McKittrick Limited.

Description: Market-Based Triennial Review Filing: Southwest Triennial & 819 Revisions to be effective 7/1/2016.

Filed Date: 6/30/16.

Accession Number: 20160630-5067.

Comments Due: 5 p.m. ET 8/29/16.

Docket Numbers: ER16-2086-000.

Applicants: Cabazon Wind Partners, LLC.

Description: Market-Based Triennial Review Filing: Southwest Triennial & 819 Revisions to be effective 7/1/2016.

Filed Date: 6/30/16.

Accession Number: 20160630-5089.

Comments Due: 5 p.m. ET 8/29/16.

Docket Numbers: ER16-2087-000.

Applicants: Griffith Energy LLC.

Description: Compliance filing: Revised Market Based Rate Tariff for Order 819 to be effective 8/29/2016.

Filed Date: 6/30/16.

Accession Number: 20160630-5090.

Comments Due: 5 p.m. ET 7/21/16.

Docket Numbers: ER16-2088-000.

Applicants: Arlington Valley, LLC.

Description: Compliance filing: Revised Market Based Rate Tariff for Order 819 to be effective 8/29/2016.

Filed Date: 6/30/16.

Accession Number: 20160630-5091.

Comments Due: 5 p.m. ET 7/21/16.

Docket Numbers: ER16-2089-000.

Applicants: Whitewater Hill Wind Partners, LLC.

Description: Market-Based Triennial Review Filing: Southwest Triennial & 819 Revisions to be effective 7/1/2016.

Filed Date: 6/30/16.

Accession Number: 20160630-5101.

Comments Due: 5 p.m. ET 8/29/16.

Docket Numbers: ER16-2090-000.

Applicants: Avista Corporation.

Description: Section 205(d) Rate Filing: Avista Corp OATT Cost of Capacity Filing to be effective 9/1/2016.

Filed Date: 6/30/16.

Accession Number: 20160630-5108.

Comments Due: 5 p.m. ET 7/21/16.

Docket Numbers: ER16-2091-000.

Applicants: Idaho Power Company

Description: Market-Based Triennial Review Filing: 2016 Market Based Rate Triennial Analysis to be effective 7/1/2016.

Filed Date: 6/30/16

Accession Number: 20160630-5115.

Comments Due: 5 p.m. ET 8/29/16.

Docket Numbers: ER16-2092-000.

Applicants: Southwest Power Pool, Inc.

Description: Section 205(d) Rate Filing: 1976R5 Kaw Valley Electric Cooperative, Inc. NITSA and NOA to be effective 9/1/2016.

Filed Date: 6/30/16.

Accession Number: 20160630-5152.

Comments Due: 5 p.m. ET 7/21/16.

Docket Numbers: ER16-2093-000.

Applicants: Southwest Power Pool, Inc.

Description: Section 205(d) Rate Filing: 2900R7 KMEA NITSA NOA to be effective 9/1/2016.

Filed Date: 6/30/16.

Accession Number: 20160630-5153.

Comments Due: 5 p.m. ET 7/21/16.

Docket Numbers: ER16-2094-000.

Applicants: Chevron Power Holdings Inc.

Description: Market-Based Triennial Review Filing: Southwest Triennial & Revised Tariff to be effective 7/1/2016.

Filed Date: 6/30/16.

Accession Number: 20160630-5175.

Comments Due: 5 p.m. ET 8/29/16.

Docket Numbers: ER16-2095-000.

Applicants: Midwest Generation, LLC.

Description: Section 205(d) Rate Filing: Revised FERC Electric Tariff, Original Volume No. 3 to be effective 8/1/2016.

Filed Date: 6/30/16.

Accession Number: 20160630-5180.

Comments Due: 5 p.m. ET 7/21/16.

Docket Numbers: ER16-2096-000.

Applicants: Public Service Company of New Mexico.

Description: Public Service Company of New Mexico submits filing per 35.15: Notice of Cancellation of Operations and Maintenance Agreement not filed in eTariff to be effective 07/01/2016.

Filed Date: 6/30/16.

Accession Number: 20160630-5184.

Comments Due: 5 p.m. ET 7/21/16.

Docket Numbers: ER16-2097-000.

Applicants: Vermont Transco, LLC.

Description: Section 205(d) Rate Filing: Vermont Transco LLC Updated Exhibit A for the 1991 Transmission Agreement to be effective 7/1/2016.

Filed Date: 6/30/16.

Accession Number: 20160630-5193.

Comments Due: 5 p.m. ET 7/21/16.

Docket Numbers: ER16-2098-000.

Applicants: NorthWestern Corporation.

Description: Section 205(d) Rate Filing: SA 783—Firm Point-to-Point TSA with Energy Keepers to be effective 9/1/2016.

Filed Date: 6/30/16.

Accession Number: 20160630-5246.

Comments Due: 5 p.m. ET 7/21/16.

Docket Numbers: ER16-2099-000.

Applicants: PJM Interconnection, L.L.C.

Description: Compliance filing: PJM submits revisions to OATT Section 23.1 pursuant to Order No. 739 to be effective 10/1/2010.

Filed Date: 6/30/16.

Accession Number: 20160630-5247.

Comments Due: 5 p.m. ET 7/21/16.

Docket Numbers: ER16-2100-000.

Applicants: Gila River Power LLC.

Description: Market-Based Triennial Review Filing: Gila River Power LLC Updated MBR Tariff to be effective 6/30/2016.

Filed Date: 6/30/16.

Accession Number: 20160630-5248.

Comments Due: 5 p.m. ET 8/29/16.

Docket Numbers: ER16-2101-000.

Applicants: Entegra Power Services LLC.

Description: Market-Based Triennial Review Filing: Entegra Power Services LLC Updated MBR Tariff to be effective 6/30/2016.

Filed Date: 6/30/16.

Accession Number: 20160630-5251.

Comments Due: 5 p.m. ET 8/29/16.

Docket Numbers: ER16-2102-000.

Applicants: Sentinel Energy Center, LLC.

Description: Section 205(d) Rate Filing: Revised Market-Based Rate Tariff Filing to be effective 8/30/2016.

Filed Date: 6/30/16.

Accession Number: 20160630-5253.

Comments Due: 5 p.m. ET 7/21/16.

Docket Numbers: ER16-2103-000.

Applicants: Florida Power & Light Company.

Description: Section 205(d) Rate Filing: FPL and the City of Moore Haven NITSA and NOA to be effective 7/1/2016.

Filed Date: 6/30/16.

Accession Number: 20160630-5262.

Comments Due: 5 p.m. ET 7/21/16.

Docket Numbers: ER16-2104-000.

Applicants: New England Power Pool Participants Committee.

Description: Section 205(d) Rate Filing: July 2016 Membership Filing to be effective 6/1/2016.

Filed Date: 6/30/16.

Accession Number: 20160630-5265.

Comments Due: 5 p.m. ET 7/21/16.

Docket Numbers: ER16-2105-000.

Applicants: Castleton Power, LLC.

Description: Market-Based Triennial Review Filing: Castleton Power Triennial Market Review (June 2016) to be effective 7/1/2016.

Filed Date: 6/30/16.

Accession Number: 20160630-5281.

Comments Due: 5 p.m. ET 8/29/16.

Docket Numbers: ER16-2106-000.

Applicants: Castleton Energy Services, LLC.

Description: Market-Based Triennial Review Filing: Castleton Energy Services Triennial Market Review (June 2016) to be effective 7/1/2016.

Filed Date: 6/30/16.

Accession Number: 20160630-5282.

Comments Due: 5 p.m. ET 8/29/16.

Docket Numbers: ER16-2107-000.

Applicants: Sundevil Power Holdings, LLC.

Description: Market-Based Triennial Review Filing: Sundevil Triennial Market Review (June 2016) to be effective 7/1/2016.

Filed Date: 6/30/16.

Accession Number: 20160630-5283.

Comments Due: 5 p.m. ET 8/29/16.

Docket Numbers: ER16-2108-000.

Applicants: West Valley Power, LLC.

Description: Market-Based Triennial Review Filing: West Valley Triennial Market Review (June 2016) to be effective 7/1/2016.

Filed Date: 6/30/16.

Accession Number: 20160630-5285.

Comments Due: 5 p.m. ET 8/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2016.
Nathaniel J. Davis, Sr.,
Deputy Secretary.

[FR Doc. 2016-16238 Filed 7-8-16; 8:45 am]

BILLING CODE 6717-01-P